DEPARTMENT OF TRANSPORTATION

Federal Aviation Administration

14 CFR Part 97

[Docket No. 31145; Amdt. No. 3757]

Standard Instrument Approach Procedures, and Takeoff Minimums and Obstacle Departure Procedures; Miscellaneous Amendments

AGENCY: Federal Aviation Administration (FAA), DOT.

ACTION: Final rule.

SUMMARY: This rule establishes, amends, suspends, or removes Standard Instrument Approach Procedures (SIAPs) and associated Takeoff Minimums and Obstacle Departure Procedures (ODPs) for operations at certain airports. These regulatory actions are needed because of the adoption of new or revised criteria, or because of changes occurring in the National Airspace System, such as the commissioning of new navigational facilities, adding new obstacles, or changing air traffic requirements. These changes are designed to provide safe and efficient use of the navigable airspace and to promote safe flight operations under instrument flight rules at the affected airports.

DATES: This rule is effective August 17, 2017. The compliance date for each SIAP, associated Takeoff Minimums, and ODP is specified in the amendatory provisions.

The incorporation by reference of certain publications listed in the regulations is approved by the Director of the Federal Register as of August 17, 2017.

ADDRESSES: Availability of matters incorporated by reference in the amendment is as follows:

For Examination

1. U.S. Department of Transportation, Docket Ops-M30, 1200 New Jersey Avenue SE., West Bldg., Ground Floor, Washington, DC 20590-0001.

2. The FAA Air Traffic Organization Service Area in which the affected airport is located;

3. The office of Aeronautical Navigation Products, 6500 South MacArthur Blvd., Oklahoma City, OK 73169 or,

4. The National Archives and Records Administration (NARA). For information on the availability of this material at NARA, call 202-741-6030, or go to: http://www.archives.gov/federal_register/code_of_federal_regulations/ibr_locations.html.

Availability

All SIAPs and Takeoff Minimums and ODPs are available online free of charge. Visit the National Flight Data Center at nfdc.faa.gov to register. Additionally, individual SIAP and Takeoff Minimums and ODP copies may be obtained from the FAA Air Traffic Organization Service Area in which the affected airport is located.

FOR FURTHER INFORMATION CONTACT: Thomas J. Nichols, Flight Procedure Standards Branch (AFS-420), Flight Technologies and Programs Divisions, Flight Standards Service, Federal Aviation Administration, Mike Monroney Aeronautical Center, 6500 South MacArthur Blvd., Oklahoma City, OK 73169 (Mail Address: P.O. Box 25082, Oklahoma City, OK 73125) Telephone: (405) 954-4164.

SUPPLEMENTARY INFORMATION: This rule amends Title 14 of the Code of Federal Regulations, Part 97 (14 CFR part 97), by establishing, amending, suspending, or removes SIAPS, Takeoff Minimums and/or ODPS. The complete regulatory description of each SIAP and its associated Takeoff Minimums or ODP for an identified airport is listed on FAA form documents which are incorporated by reference in this amendment under 5 U.S.C. 552(a), 1 CFR part 51, and 14 CFR part 97.20. The applicable FAA forms are FAA Forms 8260-3, 8260-4, 8260-5, 8260-15A, and 8260-15B when required by an entry on 8260-15A.

The large number of SIAPs, Takeoff Minimums and ODPs, their complex nature, and the need for a special format make publication in the Federal Register expensive and impractical. Further, airmen do not use the regulatory text of the SIAPs, Takeoff Minimums or ODPs, but instead refer to their graphic depiction on charts printed by publishers of aeronautical materials. Thus, the advantages of incorporation by reference are realized and publication of the complete description of each SIAP, Takeoff Minimums and ODP listed on FAA form documents is unnecessary. This amendment provides the affected CFR sections and specifies the types of SIAPs, Takeoff Minimums and ODPs with their applicable effective dates. This amendment also identifies the airport and its location, the procedure, and the amendment number.

Availability and Summary of Material Incorporated by Reference

The material incorporated by reference is publicly available as listed in the ADDRESSES section.

The material incorporated by reference describes SIAPS, Takeoff Minimums and/or ODPS as identified in the amendatory language for part 97 of this final rule.

The Rule

This amendment to 14 CFR part 97 is effective upon publication of each separate SIAP, Takeoff Minimums and ODP as Amended in the transmittal. Some SIAP and Takeoff Minimums and textual ODP amendments may have been issued previously by the FAA in a Flight Data Center (FDC) Notice to Airmen (NOTAM) as an emergency action of immediate flight safety relating directly to published aeronautical charts.

The circumstances that created the need for some SIAP and Takeoff Minimums and ODP amendments may require making them effective in less than 30 days. For the remaining SIAPs and Takeoff Minimums and ODPs, an effective date at least 30 days after publication is provided.

Further, the SIAPs and Takeoff Minimums and ODPs contained in this amendment are based on the criteria contained in the U.S. Standard for Terminal Instrument Procedures (TERPS). In developing these SIAPs and Takeoff Minimums and ODPs, the TERPS criteria were applied to the conditions existing or anticipated at the affected airports. Because of the close and immediate relationship between these SIAPs, Takeoff Minimums and ODPs, and safety in air commerce, I find that notice and public procedure under 5 U.S.C. 553(b) are impracticable and contrary to the public interest and, where applicable, under 5 U.S.C 553(d), good cause exists for making some SIAPs effective in less than 30 days.

The FAA has determined that this regulation only involves an established body of technical regulations for which frequent and routine amendments are necessary to keep them operationally current. It, therefore—(1) is not a “significant regulatory action” under Executive Order 12866; (2) is not a “significant rule” under DOT Regulatory Policies and Procedures (44 FR 11034; February 26,1979); and (3) does not warrant preparation of a regulatory evaluation as the anticipated impact is so minimal. For the same reason, the FAA certifies that this amendment will not have a significant economic impact on a substantial number of small entities under the criteria of the Regulatory Flexibility Act.

List of Subjects in 14 CFR Part 97

Air traffic control, Airports, Incorporation by reference, Navigation (air).

Issued in Washington, DC, on July 14, 2017.
John S. Duncan,
Director, Flight Standards Service.

Adoption of the Amendment

Accordingly, pursuant to the authority delegated to me, Title 14, Code of Federal Regulations, Part 97 (14 CFR part 97) is amended by establishing, amending, suspending, or removing Standard Instrument Approach Procedures and/or Takeoff Minimums and Obstacle Departure Procedures effective at 0901 UTC on the dates specified, as follows:

PART 97—STANDARD INSTRUMENT APPROACH PROCEDURES

1. The authority citation for part 97 continues to read as follows:

Authority: 49 U.S.C. 106(f), 106(g), 40103, 40106, 40113, 40114, 40120, 44502, 44514, 44701, 44719, 44721-44722.

2. Part 97 is amended to read as follows:

Effective 17 August 2017

Akiak, AK, Akiak, RNAV (GPS) RWY 3, Orig-B

Akiak, AK, Akiak, RNAV (GPS) RWY 21, Orig-B

Talkeetna, AK, Talkeetna, NDB RWY 1, Amdt 4

Talkeetna, AK, Talkeetna, RNAV (GPS) RWY 1, Amdt 1

Talkeetna, AK, Talkeetna, RNAV (GPS) RWY 19, Orig

Talkeetna, AK, Talkeetna, Takeoff Minimums and Obstacle DP, Amdt 3

Talkeetna, AK, Talkeetna, VOR RWY 1, Amdt 3

Talkeetna, AK, Talkeetna, VOR-A, Amdt 11

Anniston, AL, Anniston Rgnl, ILS Y OR LOC Y RWY 5, Orig

Anniston, AL, Anniston Rgnl, ILS Z OR LOC Z RWY 5, Amdt 4

Anniston, AL, Anniston Rgnl, NDB RWY 5, Amdt 4C, CANCELED

Anniston, AL, Anniston Rgnl, RNAV (GPS) RWY 5, Amdt 2

Anniston, AL, Anniston Rgnl, RNAV (GPS) RWY 23, Amdt 1

Anniston, AL, Anniston Rgnl, RNAV (GPS) Y RWY 23, Amdt 1B, CANCELED

Birmingham, AL, Birmingham-Shuttlesworth Intl, ILS OR LOC RWY 24, ILS RWY 24 (SA CAT II), Amdt 4

Birmingham, AL, Birmingham-Shuttlesworth Intl, RNAV (GPS) Y RWY 24, Amdt 4

Birmingham, AL, Birmingham-Shuttlesworth Intl, RNAV (RNP) Z RWY 24, Amdt 2

Gadsden, AL, Northeast Alabama Rgnl, VOR RWY 6, Amdt 14

Byron, CA, Byron, RNAV (GPS) RWY 30, Amdt 1

Byron, CA, Byron, Takeoff Minimums and Obstacle DP, Amdt 2

Los Angeles, CA, Los Angeles Intl, Takeoff Minimums and Obstacle DP, Amdt 14

Sacramento, CA, Sacramento Intl, ILS OR LOC RWY 34L, Amdt 7E

Vacaville, CA, Nut Tree, RNAV (GPS) Y RWY 20, Orig-A, CANCELED

Vacaville, CA, Nut Tree, VOR-A, Amdt 6

Colorado Springs, CO, City of Colorado Springs Muni, ILS OR LOC RWY 17L, ILS RWY 17L (SA CAT I), ILS RWY 17L (CAT II), Amdt 3A

Colorado Springs, CO, City of Colorado Springs Muni, ILS OR LOC RWY 35L, Amdt 38A

Colorado Springs, CO, City of Colorado Springs Muni, ILS OR LOC RWY 35R, Amdt 2A

Colorado Springs, CO, City of Colorado Springs Muni, NDB RWY 35L, Amdt 27A

Colorado Springs, CO, City of Colorado Springs Muni, RNAV (GPS) RWY 31, Amdt 2A

Colorado Springs, CO, City of Colorado Springs Muni, RNAV (GPS) Y RWY 17L, Amdt 3A

Colorado Springs, CO, City of Colorado Springs Muni, RNAV (GPS) Y RWY 17R, Amdt 3A

Colorado Springs, CO, City of Colorado Springs Muni, RNAV (GPS) Y RWY 35L, Amdt 1A

Colorado Springs, CO, City of Colorado Springs Muni, RNAV (GPS) Y RWY 35R, Amdt 4A

Colorado Springs, CO, City of Colorado Springs Muni, RNAV (RNP) Z RWY 17L, Amdt 2A

Colorado Springs, CO, City of Colorado Springs Muni, RNAV (RNP) Z RWY 17R, Amdt 1A

Colorado Springs, CO, City of Colorado Springs Muni, RNAV (RNP) Z RWY 35L, Amdt 1A

Colorado Springs, CO, City of Colorado Springs Muni, RNAV (RNP) Z RWY 35R, Amdt 1A

Denver, CO, Rocky Mountain Metropolitan, RNAV (GPS) RWY 12L, Orig

Danbury, CT, Danbury Muni, GPS RWY 8, Amdt 1A, CANCELED

Danbury, CT, Danbury Muni, RNAV (GPS) RWY 8, Orig

Danbury, CT, Danbury Muni, RNAV (GPS)-A, Orig

Danbury, CT, Danbury Muni, VOR OR GPS-A, Amdt 9B, CANCELED

Miami, FL, Miami Intl, ILS OR LOC RWY 27, Amdt 27

Miami, FL, Miami Intl, ILS OR LOC RWY 30, Amdt 1B

Savannah, GA, Savannah/Hilton Head Intl, ILS OR LOC RWY 10, ILS RWY 10 (SA CAT I), ILS RWY 10 (SA CAT II), Amdt 28

Muscatine, IA, Muscatine Muni, Takeoff Minimums and Obstacle DP, Amdt 3

Burley, ID, Burley Muni, VOR-A, Amdt 5

Marion, IL, Veterans Airport of Southern Illinois, ILS OR LOC RWY 20, Amdt 12B

Marion, IL, Veterans Airport of Southern Illinois, NDB RWY 20, Amdt 10D

Marion, IL, Veterans Airport of Southern Illinois, RNAV (GPS) RWY 2, Amdt 1C

Marion, IL, Veterans Airport of Southern Illinois, RNAV (GPS) RWY 20, Amdt 1C

Marion, IL, Veterans Airport of Southern Illinois, Takeoff Minimums and Obstacle DP, Amdt 1

Marion, IL, Veterans Airport of Southern Illinois, VOR RWY 2, Amdt 13E

Marion, IL, Veterans Airport of Southern Illinois, VOR RWY 20, Amdt 17D

Sheridan, IN, Sheridan, VOR-A, Amdt 6A

Abilene, KS, Abilene Muni, RNAV (GPS) RWY 17, Amdt 1B

Abilene, KS, Abilene Muni, RNAV (GPS) RWY 35, Amdt 1B

Abilene, KS, Abilene Muni, VOR-A, Amdt 3A

Dodge City, KS, Dodge City Rgnl, ILS OR LOC RWY 14, Amdt 3A

Dodge City, KS, Dodge City Rgnl, RNAV (GPS) RWY 14, Amdt 1B

Dodge City, KS, Dodge City Rgnl, VOR RWY 14, Amdt 19A

Leonardtown, MD, St Mary's County Rgnl, RNAV (GPS) RWY 11, Amdt 1

Leonardtown, MD, St Mary's County Rgnl, RNAV (GPS) RWY 29, Amdt 1

Aitkin, MN, Aitkin Muni-Steve Kurtz Field, NDB RWY 16, Amdt 5C

Aitkin, MN, Aitkin Muni-Steve Kurtz Field, RNAV (GPS) RWY 16, Amdt 1

Aitkin, MN, Aitkin Muni-Steve Kurtz Field, RNAV (GPS) RWY 34, Amdt 1

Pine River, MN, Pine River Rgnl, NDB RWY 34, Amdt 1A

St Louis, MO, St Louis Lambert Intl, ILS OR LOC RWY 12R, Amdt 22B

St Louis, MO, St Louis Lambert Intl, ILS OR LOC RWY 30L, Amdt 12B

St Louis, MO, St Louis Lambert Intl, RNAV (GPS) Y RWY 12R, Amdt 1C

St Louis, MO, St Louis Lambert Intl, RNAV (GPS) Y RWY 30L, Amdt 1C

St Louis, MO, St Louis Lambert Intl, RNAV (RNP) Z RWY 12R, Orig-B

St Louis, MO, St Louis Lambert Intl, RNAV (RNP) Z RWY 30L, Orig-B

Great Falls, MT, Great Falls Intl, ILS OR LOC RWY 3, ILS RWY 3 (SA CAT I), ILS RWY 3 (CAT II), ILS RWY 3 (CAT III), Amdt 5C

Great Falls, MT, Great Falls Intl, NDB RWY 34, Amdt 16C, CANCELED

Great Falls, MT, Great Falls Intl, RNAV (GPS) RWY 17, Orig

Great Falls, MT, Great Falls Intl, RNAV (GPS) RWY 35, Orig

Great Falls, MT, Great Falls Intl, RNAV (GPS) Y RWY 3, Amdt 3B

Great Falls, MT, Great Falls Intl, RNAV (GPS) Y RWY 21, Orig-C

Great Falls, MT, Great Falls Intl, RNAV (RNP) Z RWY 3, Orig-C

Great Falls, MT, Great Falls Intl, RNAV (RNP) Z RWY 21, Orig-D

Great Falls, MT, Great Falls Intl, Takeoff Minimums and Obstacle DP, Amdt 1

Great Falls, MT, Great Falls Intl, VOR RWY 21, Amdt 10

Kalispell, MT, Glacier Park Intl, RNAV (GPS) Z RWY 2, Amdt 3

North Wilkesboro, NC, Wilkes County, ILS Y OR LOC Y RWY 1, Amdt 1

North Wilkesboro, NC, Wilkes County, ILS Z OR LOC Z RWY 1, Orig

North Wilkesboro, NC, Wilkes County, RNAV (GPS) RWY 1, Amdt 1

North Wilkesboro, NC, Wilkes County, RNAV (GPS) RWY 19, Orig

North Wilkesboro, NC, Wilkes County, Takeoff Minimums and Obstacle DP, Amdt 1

Manchester, NH, Manchester, ILS OR LOC RWY 6, Amdt 2B

Manchester, NH, Manchester, ILS OR LOC RWY 35, ILS RWY 35 (SA CAT I), ILS RWY 35 (CAT II), ILS RWY 35 (CAT III), Amdt 2B

Manchester, NH, Manchester, ILS OR LOC/DME RWY 17, Amdt 2C

Manchester, NH, Manchester, RNAV (GPS) RWY 6, Amdt 2B

Manchester, NH, Manchester, RNAV (GPS) RWY 24, Amdt 1B

Manchester, NH, Manchester, RNAV (GPS) Y RWY 17, Amdt 1B

Manchester, NH, Manchester, RNAV (GPS) Y RWY 35, Amdt 1B

Manchester, NH, Manchester, RNAV (RNP) Z RWY 17, Amdt 1A

Manchester, NH, Manchester, RNAV (RNP) Z RWY 35, Orig-A

Las Vegas, NV, Mc Carran Intl, ILS OR LOC RWY 1L, Amdt 2

Las Vegas, NV, Mc Carran Intl, ILS OR LOC RWY 26L, Amdt 6

Las Vegas, NV, Mc Carran Intl, ILS OR LOC RWY 26R, Amdt 19

Las Vegas, NV, Mc Carran Intl, RNAV (GPS) RWY 19L, Amdt 2

Las Vegas, NV, Mc Carran Intl, RNAV (GPS) RWY 19R, Amdt 2

Las Vegas, NV, Mc Carran Intl, Takeoff Minimums and Obstacle DP, Amdt 8

Las Vegas, NV, Mc Carran Intl, VOR RWY 26L/R, Amdt 4

New York, NY, John F Kennedy Intl, ILS OR LOC RWY 4R, ILS RWY 4R (CAT II), ILS RWY 4R (CAT III), Amdt 30

New York, NY, John F Kennedy Intl, RNAV (GPS) Y RWY 4L, Amdt 3

New York, NY, John F Kennedy Intl, RNAV (GPS) Y RWY 4R, Amdt 2

New York, NY, John F Kennedy Intl, RNAV (RNP) Z RWY 4L, Amdt 2

New York, NY, John F Kennedy Intl, RNAV (RNP) Z RWY 4R, Amdt 1

Majuro Atoll, RM, Marshall Islands Intl, RNAV (GPS) RWY 7, Orig-D

Majuro Atoll, RM, Marshall Islands Intl, RNAV (GPS) RWY 25, Orig-D

Hartsville, SC, Hartsville Rgnl, NDB RWY 21, Amdt 1B, CANCELED

Hartsville, SC, Hartsville Rgnl, RNAV (GPS) RWY 3, Amdt 1

Hartsville, SC, Hartsville Rgnl, RNAV (GPS) RWY 21, Amdt 1

Hartsville, SC, Hartsville Rgnl, Takeoff Minimums and Obstacle DP, Amdt 1

Hartsville, SC, Hartsville Rgnl, VOR-A, Orig

Myrtle Beach, SC, Myrtle Beach Intl, ILS OR LOC RWY 18, ILS RWY 18 (SA CAT I), ILS RWY 18 (SA CAT II), Amdt 5

Bristol/Johnson/Kingsport, TN, Tri-Cities, RNAV (GPS) RWY 9, Amdt 1

Bristol/Johnson/Kingsport, TN, Tri-Cities, RNAV (GPS) RWY 27, Amdt 1

Wheeler, TX, Wheeler Muni, RNAV (GPS)-A, Amdt 1

Wheeler, TX, Wheeler Muni, RNAV (GPS)-B, Amdt 1

Salt Lake City, UT, Salt Lake City Intl, ILS OR LOC RWY 16L, ILS RWY 16L (CAT II), ILS RWY 16L (CAT III), Amdt 3B

Salt Lake City, UT, Salt Lake City Intl, ILS OR LOC RWY 16R, ILS RWY 16R (SA CAT I), ILS RWY 16R (CAT II), ILS RWY 16R (CAT III), Amdt 3C

Salt Lake City, UT, Salt Lake City Intl, ILS OR LOC RWY 17, ILS RWY 17 (SA CAT I), ILS RWY 17 (SA CAT II), Amdt 14A

Salt Lake City, UT, Salt Lake City Intl, ILS OR LOC RWY 34L, ILS RWY 34L (SA CAT I), ILS RWY 34L (CAT II), ILS RWY 34L (CAT III), Amdt 3B

Salt Lake City, UT, Salt Lake City Intl, ILS OR LOC RWY 34R, ILS RWY 34R (SA CAT I), ILS RWY 34R (CAT II), ILS RWY 34R (CAT III), Amdt 4B

Salt Lake City, UT, Salt Lake City Intl, LDA RWY 35, Orig-C

Salt Lake City, UT, Salt Lake City Intl, RNAV (GPS) RWY 16L, Amdt 1A

Salt Lake City, UT, Salt Lake City Intl, RNAV (GPS) RWY 16R, Amdt 1A

Salt Lake City, UT, Salt Lake City Intl, RNAV (GPS) RWY 17, Amdt 2A

Salt Lake City, UT, Salt Lake City Intl, RNAV (GPS) RWY 34L, Amdt 1B

Salt Lake City, UT, Salt Lake City Intl, RNAV (GPS) RWY 34R, Amdt 1B

Salt Lake City, UT, Salt Lake City Intl, RNAV (GPS) RWY 35, Amdt 3

Wakefield, VA, Wakefield Muni, NDB RWY 20, Amdt 5

Wakefield, VA, Wakefield Muni, RNAV (GPS) RWY 20, Amdt 1

Wakefield, VA, Wakefield Muni, Takeoff Minimums and Obstacle DP, Amdt 1

Auburn, WA, Auburn Muni, RNAV (GPS)-A, Amdt 1

Seattle, WA, Boeing Field/King County Intl, ILS OR LOC RWY 14R, Amdt 31

Seattle, WA, Boeing Field/King County Intl, LOC/DME RWY 13R, Amdt 2A, CANCELED

Seattle, WA, Boeing Field/King County Intl, RNAV (GPS) Y RWY 14R, Amdt 1

RESCINDED: On July 13, 2017 (82 FR 32230), the FAA published an Amendment in Docket No. 31141, Amdt No. 3753 to Part 97 of the Federal Aviation Regulations under section 97.23, 97.25, 97.29 and 97.33, the following entries for Livermore, CA, Orlando, FL, and Muscatine, IA, effective August 17, 2017, and are hereby rescinded in their entirety:

Livermore, CA, Livermore Muni, ILS RWY 25R, Amdt 8

Livermore, CA, Livermore Muni, LOC RWY 25R, Orig

Orlando, FL, Orlando Sanford Intl, ILS OR LOC RWY 27R, Amdt 4

Orlando, FL, Orlando Sanford Intl, RNAV (GPS) RWY 27R, Amdt 4

Muscatine, IA, Muscatine Muni, VOR RWY 6, Orig-D, CANCELED

[FR Doc. 2017-17008 Filed 8-16-17; 8:45 am]

BILLING CODE 4910-13-P